DEPARTMENT OF TRANSPORTATION

Federal Aviation Administration

14 CFR Part 39

[Docket No. 2002-NM-176-AD; Amendment 39-13714; AD 2004-14-05]

RIN 2120-AA64

Airworthiness Directives; McDonnell Douglas Model DC-8-11, DC-8-12, DC-8-21, DC-8-31, DC-8-32, DC-8-33, DC-8-41, DC-8-42, DC-8-43, DC-8F-54, and DC-8F-55 Airplanes; and Model DC-8-50, -60, -60F, -70 and -70F Series Airplanes

AGENCY: Federal Aviation Administration, DOT.

ACTION: Final rule.

SUMMARY: This amendment adopts a new airworthiness directive (AD), applicable to certain McDonnell Douglas airplane models, that requires inspection of the captain's and first officer's seat locking pins for minimum engagement with the detent holes in the seat tracks; inspection of the seat lockpins for excessive wear; and corrective actions, if necessary. This action is necessary to prevent uncommanded seat movement during takeoff and/or landing, which could result in interference with the operation of the airplane and consequent temporary loss of control of the airplane. This action is intended to address the identified unsafe condition.

DATES: Effective August 13, 2004.

The incorporation by reference of a certain publication listed in the regulations is approved by the Director of the Federal Register as of August 13, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

FOR FURTHER INFORMATION CONTACT: Cheyenne Del Carmen, Aerospace Engineer, Systems and Equipment Branch, ANM-130L, FAA, Los Angeles Aircraft Certification Office, 3960 Paramount Boulevard, Lakewood, California 90712-4137; telephone (562) 627-5338; fax (562) 627-5210.

SUPPLEMENTARY INFORMATION: A proposal to amend part 39 of the Federal Aviation Regulations (14 CFR part 39) to include an airworthiness directive (AD) that is applicable to certain McDonnell Douglas Model DC-8-11, DC-8-12, DC-8-21, DC-8-31, DC-8-32, DC-8-33, DC-8-41, DC-8-42, DC-8-43, DC-8F-54, and DC-8F-55 airplanes; and Model DC-8-50, -60, -60F, -70 and -70F series airplanes was published in the Federal Register on November 28, 2003 (68 FR 66770). That action proposed to require inspection of the captain's and first officer's seat locking pins for minimum engagement with the detent holes in the seat tracks; inspection of the seat lockpins for excessive wear; and corrective actions, if necessary.

Comments

Interested persons have been afforded an opportunity to participate in the making of this amendment. Due consideration has been given to the comments received.

Request To Delay Issuance of the Proposed AD

One commenter requests that the FAA delay issuance of the proposed AD until Boeing Alert Service Bulletin DC8-25A244, Revision 02, dated June 25, 2002, has been revised. The commenter states that the following changes were discussed with and agreed upon by the airplane manufacturer: (1) Option 2, step 1, should refer to Figure 4, instead of Figure 1, to verify the measurement taken, and (2) Figure 4, step 1, should contain a note specifying that an equivalent tool may be used to raise the seat until contact is made with the underside of the seat track.

We partially agree. Since issuance of the proposed AD, we have reviewed and approved Boeing Alert Service Bulletin DC8-25A244, Revision 3, dated March 9, 2004, which describes procedures that are essentially the same as the procedures described in Revision 02 of the service bulletin. Revision 3 of the service bulletin also incorporates the changes specified above by the commenter; therefore, we do not need to delay issuance of the final rule. We have revised this final rule to specify that accomplishment of the actions required by paragraphs (a) and (b) of this final rule be done in accordance with Revision 3 of the service bulletin. We have also added paragraph (c) to this final rule to give credit for actions accomplished before the effective date of this AD in accordance with Revision 02 of the service bulletin.

Request To Extend Compliance Time

Two commenters request that the proposed compliance time for the inspection be extended from 18 months to 24 months. The commenters note that this would allow the inspection to be accomplished during the time of a regularly scheduled C-check. We infer that the commenters consider that the adoption of the proposed compliance time of 18 months would require operators to schedule special times for the accomplishment of the inspection and corrective actions, at additional expense.

We do not agree with the request to extend the compliance time. In developing an appropriate compliance time for this action, we considered the safety implications and normal maintenance schedules for the timely accomplishment of the inspection and corrective actions. In consideration of these factors, we find that an 18-month interval is appropriate. However, paragraph (d) of this final rule provides affected operators the opportunity to apply for an adjustment of the compliance time if the operator also presents data that justify the adjustment.

Request for Alternative Method of Compliance

One commenter requests that its maintenance taskcard 25-000-11-05, dated June 15, 2002, be accepted as an alternative method of compliance (AMOC) with the proposed AD. The commenter states that it currently accomplishes the inspections “repetitively every ‘C’ check interval, not to exceed 24 calendar months.” The commenter also submitted its taskcard, which references “Service Bulletin DC8-25A244 [Revision] 1 or later approved version.”

The commenter makes no specific request for a change to the proposed AD. As provided by paragraph (d) of this final rule, we may approve a request for an AMOC if data are submitted to justify that the commenter's taskcard would provide an acceptable level of safety. We recommend that the commenter review Revision 3 of the service bulletin before submitting an AMOC to the Los Angeles Aircraft Certification Office for consideration of approval. No change to the final rule is needed in this regard.

Conclusion

After careful review of the available data, including the comments noted above, the FAA has determined that air safety and the public interest require the adoption of the rule with the changes previously described. The FAA has determined that these changes will neither increase the economic burden on any operator nor increase the scope of the AD.

Cost Impact

There are approximately 497 airplanes of the affected design in the worldwide fleet. The FAA estimates that 360 airplanes of U.S. registry will be affected by this AD. Table 1 shows the estimated cost impact, based upon the action taken, for airplanes affected by this AD. The average labor rate is $65 per work hour.

Table 1.—Cost Impact
Action | Work hours per seat | Work hours per airplane | Cost per airplane | Maximum fleet cost
Inspection for Option 1 | 1 | 2 | $130 | $46,800
Inspection for Option 2 | 3 | 6 | 390 | 140,400

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-05 McDonnell Douglas: Amendment 39-13714. Docket 2002-NM-176-AD.

Applicability: Model DC-8-11, DC-8-12, DC-8-21, DC-8-31, DC-8-32, DC-8-33, DC-8-41, DC-8-42, DC-8-43, DC-8-51, DC-8-52, DC-8-53, DC-8F-54, DC-8-55, DC-8F-55, DC-8-61, DC-8-61F, DC-8-62, DC-8-62F, DC-8-63, DC-8-63F, DC-8-71, DC-8-71F, DC-8-72, DC-8-72F, DC-8-73, and DC-8-73F airplanes; as listed in Boeing Alert Service Bulletin DC8-25A244, Revision 3, dated March 9, 2004; certificated in any category.

Compliance: Required as indicated, unless accomplished previously.

To prevent uncommanded seat movement during takeoff and/or landing, which could result in interference with the operation of the airplane and consequent temporary loss of control of the airplane, accomplish the following:

Inspection for Engagement and Excessive Wear of the Seat Locking Pins

(a) Within 18 months after the effective date of this AD, do the actions specified in paragraphs (a)(1) and (a)(2) of this AD, per either Option 1 or Option 2 of the Accomplishment Instructions of Boeing Alert Service Bulletin DC8-25A244, Revision 3, dated March 9, 2004.

(1) Do a detailed inspection of the seat locking pin for minimum engagement with the detent holes in the seat track of the captain's and first officer's seat assemblies.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(2) Do a detailed inspection of the seat lockpins for excessive wear.

Corrective Actions

(b) If any discrepancy is detected during the inspection required by paragraph (a) of this AD, before further flight, do the corrective action(s), per either Option 1 or Option 2 of the Accomplishment Instructions of Boeing Alert Service Bulletin DC8-25A244, Revision 3, dated March 9, 2004, as applicable. Those corrective actions include adjusting/replacing the seat locking pin with a new pin and/or adjusting/repairing/replacing the seat track with a new track.

Credit for Actions Accomplished per Previous Service Bulletin

(c) Actions accomplished before the effective date of this AD per Boeing Alert Service Bulletin DC8-25A244, Revision 02, dated June 25, 2002, are acceptable for compliance with the requirements of paragraphs (a) and (b) of this AD.

Alternative Methods of Compliance

(d) In accordance with 14 CFR 39.19, the Manager, Los Angeles Aircraft Certification Office, FAA, is authorized to approve alternative methods of compliance (AMOCs) for this AD.

Incorporation by Reference

(e) Unless otherwise specified in this AD, the actions shall be done in accordance with Boeing Alert Service Bulletin DC8-25A244, Revision 3, dated March 9, 2004. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

Effective Date

(f) This amendment becomes effective on August 13, 2004.

Issued in Renton, Washington, on June 29, 2004.
Kalene C. Yanamura,
Acting Manager, Transport Airplane Directorate, Aircraft Certification Service.

[FR Doc. 04-15374 Filed 7-8-04; 8:45 am]

BILLING CODE 4910-13-P